DEPARTMENT OF HEALTH AND HUMAN SERVICES

Administration for Children and Families

Submission for OMB Review; Comment Request

Title: National Directory of New Hires.

OMB No.: 0970-0166.

Description: Public Law 10-193, the “Personal Responsibility and Work Opportunity Reconciliation Act of 1996,” requires the Office of Child Support Enforcement (OCSE) to operate a National Directory of New Hires (NDNH) to improve the ability of state child support enforcement agencies to locate noncustodial parents and collect child support across state lines. The law requires employers to report newly hired employees to states. States are then required to periodically transmit new hire data received from employers to the NDNH, and to transmit wage and unemployment compensation claims data to the NDNH on a quarterly basis. Federal agencies are required to report new hires and quarterly wage data directly to the NDNH. All data is transmitted to the NDNH electronically.

Respondents: Employers, State Child Support Enforcement Agencies, State Employment Security Agencies, Federal Agencies.

Annual Burden Estimates
Instrument | Number of respondents | Number of responses per respondent | Average burden hours per response | Total burden hours
New Hire: Employers Reporting Manually | 5,166,000 | 3.484 | 0.417 hours (2.5 minutes) | 750,531
New Hire: Employers Reporting Electronically | 1,134,000 | 37.037 | 0.0028 hours (1 second) | 11,760
New Hire: States | 54 | 83.333 | 266.668 hours | 1,200,001
Quarterly Wage and Unemployment Compensation | 54 | 8 | 0.033 hours (2 minutes) | 14
Multistate Employers' Notification Form | 2,508 | 1 | 0.050 hours (3 minutes) | 125
Estimated total annual burden hours |  |  |  | 1,962,431

SUPPLEMENTARY INFORMATION: Copies of the proposed collection may be obtained by writing to the Administration for Children and Families, Office of Administration, Office of Information Services, 370 L'Enfant Promenade, SW., Washington, DC 20447, Attn: ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Attn: Desk Officer for ACF, E-mail address: katherine_t._astrich@omb.eop.gov.

Dated: February 19, 2004.
Robert Sargis,
Reports Clearance Office.

[FR Doc. 04-3948 Filed 2-23-04; 8:45 am]

BILLING CODE 4184-01-M